DEPARTMENT OF HEALTH AND HUMAN SERVICES

Agency for Healthcare Research and Quality Agency

Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Synthesis of AHRQ-Funded HAI Projects.” In accordance with the Paperwork Reduction Act, 44 U.S.C. 3501-3521, AHRQ invites the public to comment on this proposed information collection.

DATES: Comments on this notice must be received by June 5, 2012.

ADDRESSES: Written comments should be submitted to: Doris Leflcowitz, Reports Clearance Officer, AHRQ, by email at doris.leflcowitz@AHRQ.hhs.gov.

Copies of the proposed collection plans, data collection instruments, and specific details on the estimated burden can be obtained from the AHRQ Reports Clearance Officer.

FOR FURTHER INFORMATION CONTACT: Doris Leflcowitz, AHRQ Reports Clearance Officer, (301) 427-1477, or by email at doris.leflcowitz@AHR.hhs.gov.

SUPPLEMENTARY INFORMATION:

Proposed Project

Synthesis of AHRQ-Funded HAI Projects

The Agency for Healthcare Research and Quality (AHRQ) requests that the Office of Management and Budget (OMB) approve, under the Paperwork Reduction Act of 1995, AHRQ's collection of information for the Synthesis of AHRQ-Funded HAI Projects.

For approximately a decade, AHRQ has conducted research on preventing healthcareassociated infections (HAIs), both internally and through contracts and grants. AHRQ's grant- and contract-supported projects have been directed at the major types of HAIs: Central-line-associated bloodstream infections (CLABSI), catheter-associated urinary tract infections (CAUTI), surgical site infections (S SI), ventilator-associated pneumonia (VAP), methicillin-resistant Staphylococcus aureus (MRSA), and Clostridium difficile (C. cliff.). Projects have addressed the problem of HAIs in diverse healthcare settings, including hospitals, ambulatory settings (ambulatory surgery centers, end-stage renal disease facilities, and outpatient clinics and offices), and long-term care facilities. AHRQ's portfolio of HAI projects has emphasized a combination of research and implementation initiatives. In the latter category, a major focus of AHRQ's efforts has been to deploy tools that can improve provider performance and reduce HAIs. Based on the earlier success of the Michigan Keystone project, AHRQ has funded projects to implement the Comprehensive Unit-based Safety Program (CUSP) to address CLABSI and CAUTI nationwide. Data are now emerging that demonstrate the success of CUSP in reducing CLABSI in hospitals across the nation.

Between 2007 and 2010, AHRQ funded 40 contracts and 18 grants focusing on expanding the HAI knowledge base and implementing HAI prevention strategies. Today it is necessary to look across these projects in order to (1) identify, document, and synthesize their findings and results to ensure that AHRQ, healthcare professionals, and the public can make best use of these findings and (2) identify remaining gaps in the HAI science base to enable AHRQ to fund future studies that will address these needs. The synthesis will draw on several data sources, including interviews with project leaders. In addition to learning about studies that have not published peer-reviewed manuscripts, the interviews will enable the project team to delve into project details that are not typically available in publications, such as the project leader's motivation for responding to the request for proposal, challenges faced in implementing the project, changes in the project's delivery schedule or work plan, experts' views on how HAI prevention evidence generated by a specific project fits into the HAI research agenda more broadly, and remaining gaps in the HAI knowledge base.

AHRQ has contracted with IMPAQ International, LLC, to develop this synthesis, identify gaps, and promote the widespread application of successful HAI prevention approaches. This research has the following goals: (1) Identify and document findings and synthesize results of AHRQ-funded HAI projects; (2) Disseminate key findings from the HAI projects; and (3) Identify remaining gaps in the HAI knowledge base.

This study is being conducted by AHRQ through its contractor, IMPAQ International, LLC and its subcontractor, the RAND Corporation, pursuant to AHRQ's statutory authority to conduct and support research and disseminate information on healthcare and on systems for the delivery of such care, including activities with respect to the quality, effectiveness, efficiency, appropriateness and value of healthcare services and with respect to quality measurement and improvement. 42 U.S.C. 299a(a)(1) and (2).

Method of Collection

To achieve the goals of this project the following data collection will be implemented:

(1) Interviews with contractors—Interviews will be conducted with the project leaders (project directors or project managers) from 40 HAT contractors. The purpose of these interviews is to identify (a) key findings, (b) gaps in knowledge base, (c) lessons learned, (d) effective approaches for preventing and reducing HAIs, and e) opportunities for additional projects focused on generating and implementing knowledge on preventing HAIs.

(2) Interviews with grantees—Interviews will be conducted with the project leaders (principal investigators) from 18 HAI grantees. Similar to the interviews with contractors, the purpose of these interviews is to identify (a) key findings, (b) gaps in knowledge base, (c) lessons learned, (d) effective approaches for preventing and reducing HAIs, and (e) opportunities for additional projects focused on generating and implementing knowledge on preventing HAIs. While the goals of the interviews with contractors and grantees are similar, the two audiences require separate interview protocols because their funding mechanisms and project structures differ. For example, contracts have more structured deliverable schedules than do grants and grants are more likely than contracts to be on investigator-initiated topics.

AHRQ will interview key project leaders to learn about the processes and methods used, results achieved, and lessons learned under the AHRQ-funded HAI contracts and grants. This information will enable AHRQ to identify effective approaches for preventing and reducing HAIs and for promoting the widespread application of these approaches. Finally, collecting data from these audiences will allow AHRQ to detect gaps in the HAI science base and identify opportunities for additional projects focused on generating and implementing knowledge on preventing HAIs.

Estimated Annual Respondent Burden

Exhibit 1 shows the estimated annualized burden hours for the respondent's time to participate in this evaluation. Interviews will be conducted with 40 contractors and 18 grantees and each will last about 90 minutes. The total burden hours are estimated to be 87.

Exhibit 1—Estimated Annualized Burden hours
Data collection activity | Number of respondents | Number of responses per respondent | Hours per response | Total burden hours
Interviews with contractors | 40 | 1 | 1.5 | 60
Interviews with grantees | 18 | 1 | 1.5 | 27
Total | 58 | n/a | n/a | 87

The respondents are the project leaders, that is, project directors for the contracts and principal investigators for the grants. Based on the type of grant and the project leaders' qualifications, the project leaders were categorized into three labor categories: Social Scientists and Related Workers; Epidemiologists; and Medical Scientists. For example, one project director conducting a randomized controlled trial is a physician and was categorized into the Medical Scientist labor category. Other project leaders have advanced degrees in the social sciences (e.g., gerontology) or epidemiology and were included in the Social Scientist or Epidemiologist labor categories, as appropriate.

Exhibit 2 shows the estimated annualized cost burden associated with the respondent's time to participate in the evaluation. The total cost burden is estimated to be $3,450.

Exhibit 2—Estimated Annualized Cost Burden
Data collection activity | Number of respondents | Total burden hours | Average hourly wage rate* | Total cost burden
Interviews with contractors | 40 | 60 | $39.66 | $2,380
Interviews with grantees | 18 | 27 | 39.66 | 1,070
Total | 58 | 87 | n/a | 3,450
*Base upon the weighted average of the mean wages for 19-3099 Social Scientists and Related Workers, All Other ($37.45 per hour; n = 17), 19-1041 Epidemiologists ($32.83; n = 5) and 19-1042 Medical Scientists (($41.69; n = 36), National Compensation Survey: Occupational Wages in the United States May 2010, U.S. Department of Labor, Bureau of Labor Statistics.

Estimated Annual Costs to the Federal Government

Exhibit 3 shows the estimated total and annualized cost to the government for conducting the evaluation. The total cost is estimated to be $87,502.

Exhibit 3—Estimated Total and Annualized Cost
Cost component | Total cost | Annualized cost
Project Development | $6,135 | $2,045
Data Collection Activities | 17,400 | 5,800
Data Processing and Analysis | 29,000 | 9,667
Publication of Results | 0 | 0
Project Management | 5,800 | 1,933
Overhead | 29,167 | 9,722
Total | 87,502 | 29,167

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: March 29, 2012.
Carolyn M. Clancy,
Director.

[FR Doc. 2012-8098 Filed 4-5-12; 8:45 am]

BILLING CODE 4160-90-M